DEPARTMENT OF COMMERCE

International Trade Administration

[A-570-832]

Pure Magnesium from the People's Republic of China; Continuation of Antidumping Duty Order, Correction

AGENCY: Import Administration, International Trade Administration, Department of Commerce.

ACTION: Notice of Correction to Continuation of Antidumping Duty Order: Pure Magnesium from the People's Republic of China.

SUMMARY: On October 27, 2000, the Department of Commerce (“the Department”), published in the Federal Register the continuation of the antidumping duty order on pure magnesium from the People's Republic of China.¹ Subsequent to the publication of the continuation of the antidumping duty order, we identified an error in the “Determination” section of the notice. Therefore, we are correcting this error.

The error lies in the last sentence of the last paragraph of the determination section: “Pursuant to section 751(c)(2) and 751(c)(6) of the Act, the Department intends to initiate the next five-year review of this order not later than April 2005.” The sentence should be replaced with “Pursuant to section 751(c)(2) and 751(c)(6) of the Act, the Department intends to initiate the next five-year review of this order not later than September 2005.”

¹ See Continuation of Antidumping Duty Order: Pure Magnesium From the People's Republic of China, 65 FR 64422 (October 27, 2000).

FOR FURTHER INFORMATION CONTACT: Martha V. Douthit, Office of Policy for Imports Administration, International Trade Administration, U.S. Department of Commerce, 14th Street and Constitution Ave., NW, Washington, DC 20230; telephone (202) 482-5050.

Dated: November 3, 2000.
Richard W. Moreland,
Acting Assistant Secretary for Import Administration.

[FR Doc. 00-29006 Filed 11-9-00; 8:45 am]

BILLING CODE 3510-DS-P